DEPARTMENT OF ENERGY

Federal Energy Regulatory Commission

Combined Notice of Filings

Take notice that the Commission has received the following Natural Gas Pipeline Rate and Refund Report filings:

Filings Instituting Proceedings

Docket Numbers: RP16-648-000.

Applicants: ANR Pipeline Company.

Description: § 4(d) Rate Filing: Vectren Energy Neg Rate Agmts to be effective 4/1/2016.

Filed Date: 2/29/16.

Accession Number: 20160229-5121.

Comments Due: 5 p.m. ET 3/14/16.

Docket Numbers: RP16-649-000.

Applicants: Equitrans, L.P.

Description: § 4(d) Rate Filing: AVC Storage Loss Retainage Factor Update-2016 to be effective 4/1/2016.

Filed Date: 2/29/16.

Accession Number: 20160229-5175.

Comments Due: 5 p.m. ET 3/14/16.

Docket Numbers: RP16-650-000.

Applicants: ANR Pipeline Company.

Description: § 4(d) Rate Filing: Fuel Filing 2016 to be effective 4/1/2016.

Filed Date: 2/29/16.

Accession Number: 20160229-5177.

Comments Due: 5 p.m. ET 3/14/16.

Docket Numbers: RP16-651-000.

Applicants: Texas Eastern Transmission, LP.

Description: § 4(d) Rate Filing: Feb2016 Non-conforming and Negotiated Rate Cleanup to be effective 4/1/2016.

Filed Date: 2/29/16.

Accession Number: 20160229-5194.

Comments Due: 5 p.m. ET 3/14/16.

Docket Numbers: RP16-652-000.

Applicants: Cheniere Creole Trail Pipeline, L.P.

Description: § 4(d) Rate Filing: Annual Charge Adjustment Filing to be effective 4/1/2016.

Filed Date: 2/29/16.

Accession Number: 20160229-5214.

Comments Due: 5 p.m. ET 3/14/16.

Docket Numbers: RP16-653-000.

Applicants: Millennium Pipeline Company, LLC.

Description: Operational Transactions Report of Millennium Pipeline Company, LLC.

Filed Date: 2/29/16.

Accession Number: 20160229-5248.

Comments Due: 5 p.m. ET 3/14/16.

Docket Numbers: RP16-654-000.

Applicants: Trunkline Gas Company, LLC.

Description: § 4(d) Rate Filing: Fuel Filing on 2-29-16 to be effective 4/1/2016.

Filed Date: 2/29/16.

Accession Number: 20160229-5320.

Comments Due: 5 p.m. ET 3/14/16.

Docket Numbers: RP16-655-000.

Applicants: Panhandle Eastern Pipe Line Company, LP.

Description: § 4(d) Rate Filing: Fuel Filing on 2-29-16 to be effective 4/1/2016.

Filed Date: 2/29/16.

Accession Number: 20160229-5327.

Comments Due: 5 p.m. ET 3/14/16.

Docket Numbers: RP16-656-000.

Applicants: Southwest Gas Storage Company.

Description: § 4(d) Rate Filing: Fuel Filing on 2-29-16 to be effective 4/1/2016.

Filed Date: 2/29/16.

Accession Number: 20160229-5331.

Comments Due: 5 p.m. ET 3/14/16.

Docket Numbers: RP16-657-000.

Applicants: Dominion Transmission, Inc.

Description: § 4(d) Rate Filing: DTI—February 29, 2016, Nonconforming Service Agreement to be effective 4/1/2016.

Filed Date: 2/29/16.

Accession Number: 20160229-5344.

Comments Due: 5 p.m. ET 3/14/16.

Docket Numbers: RP16-658-000.

Applicants: Tennessee Gas Pipeline Company, L.L.C.

Description: § 4(d) Rate Filing: Fuel Tracker 2016 to be effective 2/29/2016.

Filed Date: 2/29/16.

Accession Number: 20160229-5347.

Comments Due: 5 p.m. ET 3/14/16.

Docket Numbers: RP16-659-000.

Applicants: Iroquois Gas Transmission System, L.P.

Description: § 4(d) Rate Filing: 02/29/16 Negotiated Rates—Macquarie Energy LLC (RTS) 4090-12 to be effective 3/1/2016.

Filed Date: 2/29/16.

Accession Number: 20160229-5369.

Comments Due: 5 p.m. ET 3/14/16.

Docket Numbers: RP16-660-000.

Applicants: Dominion Cove Point LNG, LP.

Description: § 4(d) Rate Filing: DCP—2016 Annual EPCA to be effective 4/1/2016.

Filed Date: 2/29/16.

Accession Number: 20160229-5376.

Comments Due: 5 p.m. ET 3/14/16.

Docket Numbers: RP16-661-000.

Applicants: Equitrans, L.P.

Description: § 4(d) Rate Filing: 3-1-2016 Formula-Based Negotiated Rates to be effective 3/1/2016.

Filed Date: 2/29/16.

Accession Number: 20160229-5377.

Comments Due: 5 p.m. ET 3/14/16.

Docket Numbers: RP16-662-000.

Applicants: Rockies Express Pipeline LLC.

Description: § 4(d) Rate Filing: Neg Rate 2016-02-29 Encana to be effective 3/1/2016.

Filed Date: 2/29/16.

Accession Number: 20160229-5379.

Comments Due: 5 p.m. ET 3/14/16.

Docket Numbers: RP16-663-000.

Applicants: Natural Gas Pipeline Company of America.

Description: § 4(d) Rate Filing: Mercuria Energy Gas Trading LLC 146663-NSSANGPL to be effective 3/1/2016.

Filed Date: 2/29/16.

Accession Number: 20160229-5380.

Comments Due: 5 p.m. ET 3/14/16.

Docket Numbers: RP16-664-000.

Applicants: Dominion Cove Point LNG, LP.

Description: § 4(d) Rate Filing: DCP—2016 Annual Fuel Retainage to be effective 4/1/2016.

Filed Date: 2/29/16.

Accession Number: 20160229-5382.

Comments Due: 5 p.m. ET 3/14/16.

Docket Numbers: RP16-665-000.

Applicants: Florida Gas Transmission Company, LLC.

Description: § 4(d) Rate Filing: Fuel Filing on 2-29-16 to be effective 4/1/2016.

Filed Date: 2/29/16.

Accession Number: 20160229-5390.

Comments Due: 5 p.m. ET 3/14/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated March 1, 2016.
Nathaniel J. Davis, Sr.,
Deputy Secretary.

[FR Doc. 2016-05093 Filed 3-7-16; 8:45 am]

BILLING CODE 6717-01-P